FEDERAL COMMUNICATIONS COMMISSION

[DA 05-491]

Wireless Telecommunications Bureau Confirms Certain Licenses in the Paging and Radiotelephone Service and Certain Licenses Operating on 929-930 MHz Private Carrier Paging Exclusive Channels Terminated as a Result of Spectrum Audit

AGENCY: Federal Communications Commission.

ACTION: Notice.

SUMMARY: In this document, as a result of certain licensees' failure to respond to the Wireless Telecommunications Bureau (Bureau) audit inquiries, the Bureau announces that certain licenses have been presumed to have permanently discontinued service, as defined in the Commission's discontinuance of station operation rules, and therefore have cancelled automatically. Action has been taken in the Universal Licensing System to terminate the licenses that are set forth in the Attachment of this Public Notice.

FOR FURTHER INFORMATION CONTACT: Denise D. Walter, Mobility Division, at 202-418-0620.

SUPPLEMENTARY INFORMATION: This is a summary of the Commission's Public Notice (Public Notice), DA 05-491, released on March 9, 2005. The full text of this document is available for inspection and copying during normal business hours in the Federal Communications Commission Reference Center, 445 12th Street, SW., Washington, DC 20554. The complete text may be purchased from the Federal Communications Commission's copy contractor, Best Copy and Printing, Inc, 445 12th Street, SW., Room CY-B402, Washington, DC 20554. The full text may also be downloaded at http://wireless.fcc.gov. Alternative formats are available to persons with disabilities by contacting Brian Millin at (202) 418-7426 or TTY (202) 418-7365 or at bmillin@fcc.gov.

1. On September 24, 2004, the Bureau mailed letters to all licensees operating in the Paging and Radiotelephone Service with a “CD” radio service code and certain licensees operating on 929-930 MHz private carrier paging exclusive channels with a “GS” radio service code inquiring into the operational status of each license held. Each licensee was required to respond and certify, by November 12, 2004, that its authorized station(s) had not permanently discontinued service as defined in § 22.317 of the Commission's rules. The audit letter, mailed to each licensee at its address of record, included the call signs of the licensee's authorizations involved in this audit. On December 7, 2004 the Bureau mailed a second letter and notice of termination to those who did not respond to the first letter directing them to respond to the audit by January 21, 2005. Due to an error, a few licensees did not receive this letter. Therefore, another letter was mailed on January 13, 2005, and the filing deadline to respond to the audit was extended to February 21, 2005. In addition, the Bureau released an initial Public Notice, 69 FR 54290, September 8, 2004 announcing the audit, and subsequent Public Notices, 69 FR 60626, October 12, 2004 and 69 FR 76469, December 20, 2004, announcing the mailing of the first and second audit letters.

2. In the audit letters mailed to the individual licensees, as well as in the Bureau's Public Notices, the Bureau expressly indicated that a response to the audit letter was mandatory. The Bureau also indicated that failure to provide a timely response may result in the Commission's presumption that station at issue has permanently discontinued service as defined in § 22.317 of the Commission's rules and may result in the loss of the licensee's authority to operate on the station(s) at issue in the audit letter. The Bureau has received no response to audit letters for the station licenses that are set forth in the Attachment of the Public Notice. The Bureau therefore presumes that the stations identified in the Attachment have permanently discontinued service as defined in § 22.317 of the Commission's rules and confirms that these station licenses have cancelled automatically. Action has been taken in the Universal Licensing System to reflect these licenses as terminated.

Federal Communications Commission.
Linda Chang,
Associate Chief, Mobility Division.

Attachment

Call sign | Radio service | Licensee
WPPG539 | GS | (800) Page-USA, Inc.
WPFN852 | GS | 800 PAGE USA INC.
WPPG540 | GS | 800 PAGE USA INC.
KNLT932 | CD | Abu Fadel, Marwan.
KRS659 | CD | ACTION PAGE, INC.
KNLM845 | CD | ACUITY, Inc.
KNLP907 | CD | Advanced Communication and Electronics, Inc.
KKB692 | CD | ADVANCED COMMUNICATIONS & TOWER INC.
KWB377 | CD | ADVANCED TELCOM
KNKG512 | CD | ADVANCED TELCOM INC.
KNKJ255 | CD | AIR PAGE, INC.
KNKM843 | CD | AIR-PAGE, INC.
KNKC358 | CD | AIRPHONE, INC.
KWT968 | CD | AIRPHONE, INC.
KWT969 | CD | AIRPHONE, INC.
KNLV702 | CD | ALAN L. KENDALL.
KNLV375 | CD | ALARRA K. HEWSTAN/MICHAEL WEINER.
KNLU428 | CD | ALEX H. SCOVIL.
KIM907 | CD | ALWAYS ANSWERING SERVICE, INC.
KIY597 | CD | ALWAYS ANSWERING SERVICE, INC.
KNKI217 | CD | ALWAYS ANSWERING SERVICE, INC.
KNKO631 | CD | ALWAYS ANSWERING SERVICE, INC.
KNKI642 | CD | ALWAYS ANSWERING SERVICES, INC.
KNKI646 | CD | ALWAYS ANSWERING SERVICES, INC.
KNLR965 | CD | AMERICAN DYNAMICS GROUP, INC.
WPJN873 | GS | AMERICAN PAGING INC.
WPJX554 | GS | AMERICAN PAGING INC.
KNLN920 | CD | AMERICAN PAGING INC. OF FLORIDA.
KNKS237 | CD | AMERICAN PAGING, INC. (OF LOUISIANA).
WRV225 | CD | ANDERSON, CONRAD DBA: ONTARIO TEL-ANSWER SERVICE.
KNLT718 | CD | ANDREW KIYOTO KUBOTA.
KNLT660 | CD | ANNA K. DAVIS.
KNLU375 | CD | ANNA K. DAVIS.
KNLV514 | CD | ANNA K. DAVIS.
KNLV515 | CD | ANNA K. DAVIS.
KNLT712 | CD | ANNA M. BANNER.
KEC520 | CD | Answer XAct New York, LLC.
KNLT753 | CD | ANTHONY RADAICH.
KNLV339 | CD | APURVA C. PATEL.
WRW291 | CD | ARCHIE CONNER DBA: LIVINGSTON MOBILEPHONE.
KSV927 | CD | ARGENTINA MOHR, PERSONAL REPRESENTATIVE.
WPGQ483 | GS | ASHER, ALVIN B.
KNLR928 | CD | ATLANTIC CELLULAR COMPANY, L.P.
KNLU294 | CD | B KEVIN KLESSER.
WPFP861 | GS | BEARD, DAVID P.
WPFP862 | GS | BEARD, DAVID P.
WPJY600 | GS | BEARD, DAVID P.
KNLR367 | CD | BEAULIEU, ARTHUR.
KNLM994 | CD | Beeper Express, Inc.
KNLT835 | CD | Beeper Network Inc.
KNLT837 | CD | Beeper Network Inc.
KNLT839 | CD | Beeper Network Inc.
KNLT840 | CD | Beeper Network Inc.
KNLT841 | CD | Beeper Network Inc.
KNLT842 | CD | Beeper Network Inc.
KNLT849 | CD | Beeper Network Inc.
KNLV796 | CD | BESSEY, DAVID J.
KNLV436 | CD | BIG APPLE PAGING CORP.
KNLV529 | CD | BIG APPLE PAGING CORP.
WPJW872 | GS | BLACK, BRIAN.
KNLN457 | CD | BLACK, CHARES E.
KNKK821 | CD | BLASIAR, INC. DBA: ALERT COMMUNICATIONS COMPANY.
KNLR886 | CD | BRENT D. CROWDER.
KNLV765 | CD | BREVARD, JAMES P.
KNLV747 | CD | BRIAN PHELPS DBA: PHELPS & STRICKLAND.
KNLQ873 | CD | BROWN, IRENE H.
KNLQ765 | CD | BUCKLAN, BARNETT AND PHYLLIS.
WNJB602 | GS | BUSINESS COMMUNICATION EXPERTS INC.
KNLT629 | CD | BUSINESS PRODUCTIVITY SYSTEMS, INC.
KNLR783 | CD | BUZB CORP.
KNLV749 | CD | BYRON RAY KOCIAN.
KNLN473 | CD | CA PAGING, INC.
KNNH791 | GS | CACTUS COMMUNICATIONS INC.
KNKO618 | CD | Calypso Communications LLC.
KNLR435 | CD | CAPITOL PAGING, INC.
WPKJ511 | GS | CARAWAY, DWAYNE H.
WPKK227 | GS | CARAWAY, DWAYNE H.
KNLU363 | CD | CARL S. SANKO.
KNLT915 | CD | CARMEN MEO.
KNLU286 | CD | CAROL S. BENCH.
KNLV617 | CD | CAROLYN SINES.
KNLR344 | CD | CARR, GEORGE L.
KNKE220 | CD | CARRIER COMMUNICATIONS CORP.
KNLM533 | CD | CARRIER COMMUNICATIONS CORP.
KNKG541 | CD | CARRIER COMMUNICATIONS, INC.
KNKC825 | CD | CAR-TEL COMMUNICATIONS, INC.
KNLQ784 | CD | CARY G. COOK.
KNLP962 | CD | CATALAN, CHARLES.
KNLT778 | CD | CATALAN, CHARLES T.
KNKM364 | CD | CEL AIR COMMUNICATIONS.
KNKM473 | CD | CEL AIR COMMUNICATIONS.
KNKB538 | CD | Central Vermont Communications, Inc.
KUS392 | CD | Central Vermont Communications, Inc.
KWT916 | CD | Central Vermont Communications, Inc.
KNLR310 | CD | CHADWICK J. GUILLORY.
KNLT483 | CD | CHARLES CATALAN.
KNLT636 | CD | CHARLES CATALAN.
KNLV772 | CD | CHARLES L HERMAN.
KNLV774 | CD | CHARLES L HERMAN.
KNLV748 | CD | CHARLES L. HERMAN.
KNLQ957 | CD | CHARLES M KEELER DBA: SOUTHEAST PAGING NETWORK.
KWH305 | CD | CHARLES P. ODEN DBA: NEBRASKA RADIO TELEPHONE SYSTEM.
KNLN416 | CD | CHISHOLM, MICHAEL G. DBA: CYPHER COMMUNICATIONS.
KNLU350 | CD | CODELL GIBSON.
KNKO900 | CD | COLLINS, DONNA N.
KDS453 | CD | COMMERCIAL COMMUNICATIONS, INC.
KKB667 | CD | COMMERCIAL COMMUNICATIONS, INC.
KPE379 | CD | COMMERCIAL COMMUNICATIONS, INC.
KUS258 | CD | COMMERCIAL COMMUNICATIONS, INC.
KWU469 | CD | COMMERCIAL COMMUNICATIONS, INC.
WRV267 | CD | COMMERCIAL COMMUNICATIONS, INC.
KNLQ499 | CD | COMMERCIAL MOBILE NETWORK, INC.
KNLU776 | CD | Commstar Communications.
KNLT216 | CD | COMMUNITRONICS, INC.
KNKJ870 | CD | COMMUNICATIONS EQUIPMENT & SERVICE, INC.
KNLR887 | CD | COMMUNITRONICS, INC.
KLF565 | CD | Communitronics, Inc.
KNLR866 | CD | COMMUNITRONICS, INC.
KNLR872 | CD | COMMUNITRONICS, INC.
KNLR889 | CD | COMMUNITRONICS, INC.
KNLS237 | CD | COMMUNITRONICS, INC.
WXS438 | CD | COMMUNITRONICS, INC.
WXS490 | CD | COMMUNITRONICS, INC.
WXS428 | CD | COMMUNITRONICS, INC.
KNKI239 | CD | COMPUCOL, INC.
KNLU298 | CD | CORNELIS M. HOFMANS.
WRD369 | CD | CORSICANA PAGING SERVICE, INC.
WRV925 | CD | CORSICANA PAGING SERVICE, INC.
KNLU908 | CD | COY OTWELL.
KNKC796 | CD | CRYSTAL COMMUNICATIONS, INC.
KNKD271 | CD | CRYSTAL COMMUNICATIONS, INC.
KNKP756 | CD | CSSI.
KWU214 | CD | CULLMAN MOBILE PHONE, WILLIAM B. FOLSOM.
KWU213 | CD | CULLMAN MOBILE PHONE, INC.
KNLQ779 | CD | CUTE-DEROSE, ROBERTA.
KNKL513 | CD | D.A. SANDERS, JR.
KNKD302 | CD | D.A. SANDERS, JR.
KNLR422 | CD | DALIA WILLIAMS.
KNLU351 | CD | DAN HOLLORAN.
KNLU217 | CD | DANIELLE GIBB.
KNLS404 | CD | DANNY RAY BOYER DBA: CENTRAL MOBILFONE.
KNLR469 | CD | DANNY RAY BOYER DBA: CENTRAL MOILFONE.
KNLR471 | CD | DANNY RAY BOYER DBA: DBA, CENTRAL MOBILEFONE.
KNLR446 | CD | DANNY RAY BOYER DBA: DBA, CENTRAL MOBILFONE.
KNKL806 | CD | DANNY'S TWO WAY COMMUNICATIONS, INC.
KNKL718 | CD | DANNY'S TWO WAY COMMUNICATIONS, INC.
KNKK854 | CD | DANNY'S TWO WAY COMMUNICATIONS, INC. DBA: DAN COMM PAGING.
KNKM272 | CD | DANNY'S TWO WAY COMMUNICATIONS, INC. DBA: D/B/A DAN COMM PAGING.
KNKJ591 | CD | DANNY'S TWO WAY COMMUNICATIONS, INC. DBA: DAN COMM PAGING.
KNKK593 | CD | DANNY'S TWO WAY COMMUNICATIONS, INC. DBA: DAN COMM PAGING.
KNKK844 | CD | DANNY'S TWO WAY COMMUNICATIONS, INC. DBA: DAN COMM PAGING.
KNKL995 | CD | DANNY'S TWO WAY COMMUNICATIONS, INC. DBA: DAN COMM PAGING.
KNKL742 | CD | DANNY'S TWO-WAY COMMUNICATIONS, INC.
WPGH961 | GS | DAVE & DAN INC DBA PROCELL COMMUNICATIONS.
KNLT489 | CD | DAVID E SELMON.
KNLV701 | CD | DAVID E. RIVERS.
KNLV725 | CD | DAVID E. RIVERS.
KNLV691 | CD | DAVID J. BESSEY.
KNLV435 | CD | DAVID KONG CHAN.
KNLU443 | CD | DAVID M. COZZOLINO.
KNKI884 | CD | DAVID P. BEARD.
KNLT476 | CD | DAVID SELL.
KNLU825 | CD | DAVID SELL.
KNLU851 | CD | DAVID SELL.
KNLU874 | CD | DAVID SELL.
KNLQ733 | CD | DAWN D CATLETT.
KNLR219 | CD | DEROSE, WILLIAM, JR.
WPOK432 | CD | DIAL-A-PAGE, INC.
KNLV779 | CD | DIMITRI A. MOSS.
KNLQ856 | CD | DION, STEVEN L. DBA: SOUTHEAST PAGING NETWORK.
KNKB920 | CD | DISK COMMUNICATIONS COMPANY, DON KEELER.
KNLV352 | CD | DIVYA C PATEL.
KNLR483 | CD | DOBBS, JONES DBA: SOUTHEAST PAGING NETWORK.
KNKI212 | CD | DON KEELER DBA: DISK COMMUNICATIONS COMPANY.
KNKB548 | CD | DON KEELER DBA: DISK COMMUNICATIONS, CO.
KNKB723 | CD | DON KELLER DBA: DISK COMMUNICATIONS.
KNKC466 | CD | DON KELLER DBA: DISK COMMUNICATIONS.
KPD990 | CD | DON KELLER DBA: DISK COMMUNICATIONS.
KNLV302 | CD | DONALD J. MENNING & HELEN.
KNLV484 | CD | DONALD P. FROELICH.
KNLV203 | CD | DORA FAISON.
KNLT904 | CD | DOROTHY A. WILLIAMS.
KNLU964 | CD | DOUGLAS BRADY.
KNLU394 | CD | DOUGLAS NONAKA.
KNLU953 | CD | DOUGLAS NONAKA.
KNLU966 | CD | DOUGLAS NONAKA.
KNLU988 | CD | DOUGLAS NONAKA.
KNLV246 | CD | DOUGLAS NONAKA.
KNKL656 | CD | DRIVEFONE, INC.
KNKL657 | CD | DRIVEFONE, INC.
KNLQ211 | CD | DUWAYNE & LORI A. HARRINGTON.
KNLT654 | CD | DWAYNE H. CARAWAY.
KNLT960 | CD | EARL E. WILKISON.
KNLP879 | CD | EASTEX TELECOMMUNICATIONS CORP.
KNKJ435 | CD | ECONOPAGE OF CLEVELAND, INC.
KNLV232 | CD | EDWARD F. SCHLUETER.
KNLV501 | CD | EDWIN W. GANTZ.
KNLV510 | CD | EDWIN W. GANTZ.
KNLS535 | CD | EDWIN W. GANTZ.
KNLV214 | CD | EDWIN W. GANTZ.
KNLV243 | CD | EDWIN W. GANTZ.
KNLQ546 | CD | ESPINOZA, RAUL.
KNKO610 | CD | EXPRESS MESSAGE CORPORATION.
KNKO614 | CD | EXPRESS PAGE, INC.
KNKP564 | CD | EXPRESS PAGE, INC.
WPDU269 | GS | F T C PAGING INC DBA FLORIDA TELEPHONE.
KNLU331 | CD | F/W TELECOMM.
KEC939 | CD | FARKILL COMMUNICATIONS, INC.
KNLM367 | CD | FARRINGTON, VIRGINIA V.
KNLN497 | CD | Faye Wells d/b/a Southern Digital Network.
KNLN499 | CD | Faye Wells d/b/a Southern Digital Network.
WNZT210 | GS | FIRSTPAGE USA OF DELAWARE INC.
KNLP313 | CD | FLORIDA NETWORK USA, INC.
KNLM381 | CD | FRALEY, CARL D.
KNLU365 | CD | FRANK BECKERER.
KNLV722 | CD | FRANKIE L. ROBERTS.
KNLV723 | CD | FRANKIE L. ROBERTS.
KNLU767 | CD | FEDERICK E SPRENGELMEYER.
KNLW367 | CD | FRIEND, PAUL W. JR.,
WPIR815 | GS | FTC PAGING INC DBA FLORIDA TELEPHONE.
WPKM766 | GS | FTC PAGING INC DBA FLORIDA TELEPHONE.
KNLU931 | CD | GANTZ, EDWIN W.
KNLU232 | CD | GENEVIVE AHLES.
KNLR748 | CD | GERALD J. SKROCKI.
KNLQ882 | CD | GIBSON, JOYCE DBA: HAWAII ALPHANUMERIC PAGING NETWORK.
KNLT590 | CD | GIBSON, JOYCE DBA: SOUTHEAST PAGING NETWORK.
KNLV252 | CD | GLADSTONE B. WALKER.
KNLU264 | CD | GLEN ROSS RIDDELL.
WPBY887 | GS | GREENLINE PARTNERS INC.
KNLU758 | CD | GREG FLEMING.
KNLQ782 | CD | GREGORY C. GARCIA.
KNLT687 | CD | GROVER HARDING WEAVER & BARRY KENT WEAVER.
KNLQ844 | CD | GRUNBERG, DAVID.
KNLP517 | CD | GULF COAST MOBILE COMMUNICATION, INC.
WPGZ955 | GS | HAFNER, CARL J.
WPHC604 | GS | HALL, RANEY.
KNLQ414 | CD | HAMPEL, BERNECE.
KNLU347 | CD | HARRY C. DUNLOP.
KNLU216 | CD | HARVEY GRIMM.
KNLV694 | CD | HELEN VERENA T. WILLIAMS.
KNLV705 | CD | HELEN VERENA T. WILLIAMS.
KNLV711 | CD | HELEN VERENA T. WILLIAMS.
KNLV713 | CD | HELEN VERENA T. WILLIAMS.
KNLV732 | CD | HELEN VERENA T. WILLIAMS.
WPHW401 | GS | HENSLEY, DARREN.
WPHD825 | GS | HENSLEY, JAMES D.
KNLU291 | CD | HERBERT B. MACKEY.
KNKP286 | CD | HIORT, FREDERICK W. JR. DBA: B&B PROPERTIES.
KNKP287 | CD | HIORT, FREDERICK W. JR. DBA: B&B PROPERTIES.
KNKP366 | CD | HIORT, FREDERICK W., JR.
KNKP371 | CD | HIORT, FREDERICK W., JR.
KNKP288 | CD | HIORT, FREDERICK W., JR. DBA: B&B BEEPERS.
KNKP365 | CD | HIOT, FREDERICK W., JR.
KNLQ949 | CD | HOFER, LEE.
KNKC506 | CD | HOME TELEPHONE COMPANY OF NEBRASKA.
KNLP924 | CD | HOUSTON WIRELESS CORPORATION.
KNLN332 | CD | HRW & ASSOCIATES, LTD.
WPOK949 | CD | INABNET COMMUNICATIONS INC.
KNKP802 | CD | Inabnet Sr., Billy L.
WRW285 | CD | Inabnet Sr., Billy L.
KKV692 | CD | INABNET TOWER & COMMUNICATIONS SERVICE.
KSW215 | CD | INABNET TOWER & COMMUNICATIONS SERVICE.
KRS618 | CD | INABNET TOWER & COMMUNICATIONS SERVICES.
WPAY210 | GS | INABNET, BILLY.
KNLQ761 | CD | INGRID TAORMINA.
WNSD489 | GS | INNER CITY PAGE INC.
WNSD490 | GS | INNER CITY PAGE INC.
WNXM893 | GS | INSTA PAGE INC.
KNKP567 | CD | INTER PAGE, INC.
KNKP782 | CD | INTER PAGE, INC.
KNKB329 | CD | INTERELECTRONICS CORPORATION.
KPD814 | CD | INTERELECTRONICS CORPORATION.
WRW238 | CD | INTERELECTRONICS CORPORATION.
KNLP852 | CD | INTERNATIONAL MOBILE TRACKING.
KNLR472 | CD | INTERNATIONAL MOBILE TRACKING SYSTEM, INC.
KNLV769 | CD | IONE C ROBINSON.
KNLM582 | CD | IRVIN, HOWARD R., JR.
KNLU391 | CD | IRVIN G. GEIB.
KNLV565 | CD | IRVING BRUNNER KEMP III.
KNLV437 | CD | J. KEN MAURIN.
KNLV444 | CD | J. KEN MAURIN.
KNLV449 | CD | J. KEN MAURIN.
KTS211 | CD | J.K. COMMUNICATIONS, INC.
KNEJ924 | GS | JACKSON MEMORIAL HOSPITAL.
KNLQ740 | CD | JAMES A. ZACH.
KNLV253 | CD | JAMES W. BOTTOMLEY.
KNKL575 | CD | JAMES WILLIAM BUFORD DBA STEAMBOAT VOICE & DIGITAL COMM.
KNLU909 | CD | JANICE R GRENTZ.
KNLV248 | CD | JASON ALLEN RICHARDS.
KNLU348 | CD | JEAN M. BENFORD.
KNLU270 | CD | JEROME NALBANDIAN.
KUS399 | CD | JIMCO, INC. DBA: PUBLIC COMM. PAGING AND RADIOTEL SERVICE.
KLB761 | CD | JIMCO, INC. DBA: PUBLIC COMM. PAGING AND RADIOTEL SERVICE.
KNLW294 | CD | JOANNE BAKEWELL.
KNLR911 | CD | JOE EDD SWEATT DBA: NORTH TEXAS MOBILE PHONE.
KNLR912 | CD | JOE EDD SWEATT DBA: NORTH TEXAS MOBILE PHONE.
KNLR916 | CD | JOE EDD SWEATT DBA: NORTH TEXAS MOBILE PHONE.
KNLR919 | CD | JOE EDD SWEATT DBA: NORTH TEXAS MOBILE PHONE.
KNKP763 | CD | JOE WALTERS, JR.
KNLM382 | CD | JOE WALTERS, JR.
KNLQ767 | CD | JOHN J. HILL JR.
KNLT941 | CD | JOHN PAK.
KNLU903 | CD | JOHN PISKOR.
KNLU939 | CD | JOHN PISKOR.
KNLV277 | CD | JOHN PISKOR.
KNLV285 | CD | JOHN PISKOR.
KNLV395 | CD | JOHN PISKOR.
KNLV396 | CD | JOHN PISKOR.
KNLV421 | CD | JOHN PISKOR.
KNLV524 | CD | JOHN PISKOR.
KNLV532 | CD | JOHN PISKOR.
KNLV548 | CD | JOHN PISKOR.
KNLV554 | CD | JOHN PISKOR.
KNLV557 | CD | JOHN PISKOR.
KNLV201 | CD | JOHN WAYNE PARRETT.
KNLQ619 | CD | JOHNSON, NELL G.
KNKK876 | CD | JONES, HUGH DBA: RICH MOUNTAIN COMMUNICATIONS.
KSJ750 | CD | KANKAKEE TELEPHONE ANSWERING SERVICE, INC.
KWH301 | CD | KANKAKEE TELEPHONE ANSWERING SERVICE, INC.
WPJX284 | GS | KAPADIA INC.
WPKJ827 | GS | KAPADIA INC.
KNLT213 | CD | KASE, CHARLES.
KNLM429 | CD | KASE, CHARLES A.
KNLV734 | CD | KENDALL, ALAN L.
KNLU285 | CD | KENNETH COHN, TRUSTEE U.A.
KNLV322 | CD | KENNETH COHN, TRUSTEE U.A.
KNLV426 | CD | KERRY AHLSTORM.
KYSR-FM | CD | KYSR INC.
KNLT628 | CD | LAR-LIN ENTERPRISES, INC.
WPOK420 | CD | LAUBENSTEIN, MOLLY-JEAN W.
KNKM844 | CD | LAWCO COMMUNICATIONS GROUP.
KDS435 | CD | Lawrence, James D.
WPQN884 | CD | Lawrence, James D.
KKFR | CD | LEADING EDGE TECHNOLOGIES INC.
KNLV692 | CD | LEE P. ANDREWS.
WXS462 | CD | LEESBURG COMMUNICATIONS & ANSWERING SERV.
KWU497 | CD | Leesburg Communications, Inc.
KNLN886 | CD | LEPERA, FRANK.
KNLN788 | CD | LEPERA, FRANK.
KNLT246 | CD | LILIAN PINHO.
KNLV234 | CD | LINDLEY, WILFORD B.
KNKM780 | CD | Link Two Communications, Inc.
KNKS255 | CD | Link Two Communications, Inc.
KNKS258 | CD | Link Two Communications, Inc.
KNLM267 | CD | Link Two Communications, Inc.
KNLR304 | CD | Link Two Communications, Inc.
KNLR306 | CD | Link Two Communications, Inc.
KNLR322 | CD | Link Two Communications, Inc.
KNLV256 | CD | LISA LYNN NITTI.
KPE354 | CD | LOU GOLDSTEIN DBA: WEST FLORDIA COMMUNICATIONS.
KNKC768 | CD | LOU GOLDSTEIN DBA: WEST FLORIDA COMMUNICATIONS.
KNLU266 | CD | LOUIS ANDREW RIDDELL JR.
KNLQ932 | CD | LOWE, LYNN W. DBA: SOUTHEAST PAGING NETWORK.
KWT915 | CD | LOWRANCE SOUND CO., INC.
KNLV380 | CD | LUCILLE M. NEAL.
KNLM914 | CD | MANN, SCOTT K. DBA: MANN COMMUNICATIONS.
KNLU408 | CD | MARIO RESTREPO.
KUC886 | CD | MARLYS J. FIE DBA: LAKE PAGING.
KNLU442 | CD | MARTIN & ANGELA WALKER.
KNLU974 | CD | MARTIN W. LADD.
KNLT453 | CD | MARTIN WALKER.
KNLV833 | CD | MARVIN G. SELL.
KNLR941 | CD | MARVIN SELL.
KNLR954 | CD | MARVIN SELL.
KNLT445 | CD | MARVIN SELL.
KNLU813 | CD | MARVIN SELL.
KNLU816 | CD | MARVIN SELL.
KNLU820 | CD | MARVIN SELL.
KNLU844 | CD | MARVIN SELL.
KNLU849 | CD | MARVIN SELL.
KNLU910 | CD | MARY M PARKER.
KNKP277 | CD | MCCAW COMMUNICATIONS OF PORTLAND, INC.
WSI707 | CD | McRoberts, Allyn C. and Mary D. DBA: Mohave Communications.
KNLS603 | CD | MELVIN H. MIDDENTS.
WNZT214 | GS | MERCURY MESSAGE PAGING INC.
WPCM733 | GS | MERCURY MESSAGE PAGING INC.
WPCM768 | GS | MERCURY MESSAGE PAGING INC.
WPJS320 | GS | MERCURY MESSAGE PAGING INC.
WPDA716 | GS | MERCURY MESSENGER SERVICE INC.
KNLV265 | CD | MERLYN W. V. LOFGREN.
KNLT782 | CD | METRO/DELTA, INC.
KNLT783 | CD | METRO/DELTA, INC.
KNLP881 | CD | METROLINK, INC.
KNLP896 | CD | METROLINK, INC.
KNLP908 | CD | METROLINK, INC.
KNLP913 | CD | METROLINK, INC.
KNLP935 | CD | METROLINK, INC.
KNLP956 | CD | METROLINK, INC.
KNLQ205 | CD | METROLINK, INC.
KNLQ207 | CD | METROLINK, INC.
KNLQ240 | CD | METROLINK, INC.
KNLV307 | CD | MICHAEL C OWENS.
KNLU429 | CD | MICHAEL H. SHIFLETT.
KNLU418 | CD | MICHAEL JOSEPH DANDREA.
WPHC479 | GS | Miguel A Mendez Trustee.
WPHC481 | GS | Miguel A Mendez Trustee.
WPHC482 | GS | Miguel A Mendez Trustee.
WPJY220 | GS | Miguel A Mendez Trustee.
WPHA618 | GS | MILLER, NEIL.
KNLU315 | CD | MIRIAM L BEAMAN.
WPJY849 | GS | MISCHLER, JANET.
WPJY930 | GS | MISCHLER, JANET.
WPJZ209 | GS | MISCHLER, JANET.
WPJZ263 | GS | MISCHLER, JANET.
KNKO616 | CD | MOBILE COMM. CORP. OF AMERICA.
KNKK943 | CD | MOBILE TEL & PAGER, INC.
KNKL233 | CD | MOBILE TEL & PAGER, INC.
KUS219 | CD | MOBILE TEL & PAGER, INC.
WPWY916 | CD | Monroe, County of
KNLV490 | CD | MONTICELLO LEASING CORPORATION.
KNKI772 | CD | MORRIS, LLOYD V. DBA: LLOYD V MORRIS & ASSOCIATES.
WNVN570 | GS | Motorola Inc.
KDS669 | CD | MOUNT VIEW COMMUNICATONS, INC.
KNLV775 | CD | MR & MRS MADISON SIPPERLEY.
KNKP415 | CD | MULTIPAGE, INC.
KNKP416 | CD | MULTIPAGE, INC.
KNLV226 | CD | N & N PARTNERS.
KNLR961 | CD | NASHVILLE DIGICOM, INC.
KKB699 | CD | NATIONLINK COMMUNICATIONS CORPORATION, INC.
KKB780 | CD | NATIONLINK COMMUNICATIONS CORPORATION, INC.
KRS705 | CD | NATIONLINK COMMUNICATIONS CORPORATION, INC.
WXS443 | CD | NEBRASKA RADIO TELEPHONE SYS., INC.
KNLV315 | CD | NELL S. NICHOLS.
KNLU928 | CD | NONAKA, DOUGLAS.
KNKB547 | CD | NORARK PAGING OF LITTLE ROCK, INC.
KNKJ940 | CD | NORARK PAGING OF LITTLE ROCK, INC.
KNKP574 | CD | North American Communications Group, Inc.
KNKP575 | CD | North American Communications Group, Inc.
KNKP576 | CD | North American Communications Group, Inc.
KNKP577 | CD | North American Communications Group, Inc.
KNKP578 | CD | North American Communications Group, Inc.
KNKP581 | CD | North American Communications Group, Inc.
KNKP605 | CD | North American Communications Group, Inc.
KNKP607 | CD | North American Communications Group, Inc.
KNLQ852 | CD | O'NEILL, C. M.
KNLU947 | CD | OPA JEAN PRICE.
KNKI807 | CD | OZARK TELECOM, INC.
KNLS320 | CD | P.G. PARNERSHIP.
KNLS319 | CD | P.G. PARTNERSHIP.
WRV927 | CD | PAGE A PHONE INC.
WXR916 | CD | PAGE A PHONE INC.
KDS450 | CD | PAGE N' TEL, INC.
WNYS465 | GS | PAGE TELECOMMUNICATIONS LLC.
WNYS496 | GS | PAGE TELECOMMUNICATIONS LLC.
WPBG813 | GS | PAGE TELECOMMUNICATIONS LLC.
WPBG814 | GS | PAGE TELECOMMUNICATIONS LLC.
WPBJ795 | GS | PAGE TELECOMMUNICATIONS LLC.
WPBM957 | GS | PAGE TELECOMMUNICATIONS LLC.
WPBW291 | GS | PAGE TELECOMMUNICATIONS LLC.
WPFK217 | GS | PAGE TELECOMMUNICATIONS LLC.
WPFK274 | GS | PAGE TELECOMMUNICATIONS LLC.
WPFK278 | GS | PAGE TELECOMMUNICATIONS LLC.
WPGZ553 | GS | PAGE TELECOMMUNICATIONS LLC.
WPGZ559 | GS | PAGE TELECOMMUNICATIONS LLC.
WPGZ561 | GS | PAGE TELECOMMUNICATIONS LLC.
WPGZ563 | GS | PAGE TELECOMMUNICATIONS LLC.
WPGZ571 | GS | PAGE TELECOMMUNICATIONS LLC.
WPGZ591 | GS | PAGE TELECOMMUNICATIONS LLC.
WPGZ626 | GS | PAGE TELECOMMUNICATIONS LLC.
WPJQ625 | GS | PAGE TELECOMMUNICATIONS LLC.
WPJQ998 | GS | PAGE TELECOMMUNICATIONS LLC.
WPJR202 | GS | PAGE TELECOMMUNICATIONS LLC.
WPJX254 | GS | PAGE TELECOMMUNICATIONS LLC.
WPJX440 | GS | PAGE TELECOMMUNICATIONS LLC.
WPJY517 | GS | PAGE TELECOMMUNICATIONS LLC.
WPJY522 | GS | PAGE TELECOMMUNICATIONS LLC.
WPJY756 | GS | PAGE TELECOMMUNICATIONS LLC.
WPKA606 | GS | PAGE TELECOMMUNICATIONS LLC.
WPKD699 | GS | PAGE TELECOMMUNICATIONS LLC.
WPKE430 | GS | PAGE TELECOMMUNICATIONS LLC.
WPKE490 | GS | PAGE TELECOMMUNICATIONS LLC.
WPKG246 | GS | PAGE TELECOMMUNICATIONS LLC.
WNPO381 | GS | PAGEPROMPT USA.
WPDD244 | GS | PAGER & CELLULAR DEPOT INC DBA PAGER AND CELLULAR DEPOT.
WPDS994 | GS | PAGER & CELLULAR DEPOT INC DBA PAGER AND CELLULAR DEPOT.
KNLM514 | CD | PAGER ONE INC.
KNNR909 | GS | PAGER ONE INC.
KNNR910 | GS | PAGER ONE INC.
WPIX617 | GS | PAGER ONE INC.
KNLM379 | CD | PAGER ONE INC.
WPFM203 | GS | PAGER ONE OF FLORIDA INC.
WPFM323 | GS | PAGER ONE OF FLORIDA INC.
WPFM335 | GS | PAGER ONE OF FLORIDA INC.
WPFM343 | GS | PAGER ONE OF FLORIDA INC.
WPFM347 | GS | PAGER ONE OF FLORIDA INC.
WPFM648 | GS | PAGER ONE OF FLORIDA INC.
WPFM652 | GS | PAGER ONE OF FLORIDA INC.
WPFM656 | GS | PAGER ONE OF FLORIDA INC.
KNLR201 | CD | PAGER ONE OF FLORIDA, INC.
KNLQ993 | CD | PAGER ONE OF FLORIDA, INC.
KNLQ994 | CD | PAGER ONE OF FLORIDA, INC.
KNLV600 | CD | PAGER ONE, INC.
KNLV602 | CD | PAGER ONE, INC.
KNLV603 | CD | PAGER ONE, INC.
KNKP736 | CD | PAGER ONE, INC.
KNKS201 | CD | PAGER ONE, INC.
KNKS202 | CD | PAGER ONE, INC.
KNKS203 | CD | PAGER ONE, INC.
KNKS205 | CD | PAGER ONE, INC.
KNKS206 | CD | PAGER ONE, INC.
KNKS207 | CD | PAGER ONE, INC.
KNKS209 | CD | PAGER ONE, INC.
KNLM995 | CD | PAGER ONE, INC.
KNLN215 | CD | PAGER ONE, INC.
KNLN217 | CD | PAGER ONE, INC.
KNLN379 | CD | PAGER ONE, INC.
KNLN980 | CD | PAGER ONE, INC.
KNLR942 | CD | PAGER ONE, INC.
WPOJ683 | CD | PAGER ONE, INC.
WPDV784 | GS | PAGETECH COMMUNICATIONS INC.
KNKB898 | CD | PAGEX COMPANY.
KNKP554 | CD | PAGING CONSULTANTS, INC.
KNEE813 | GS | PAGING DIMENSIONS INC.
WNGS882 | GS | PAGING DIMENSIONS INC.
WNKF849 | GS | PAGING DIMENSIONS INC.
WPBN988 | GS | PAGING DIMENSIONS INC.
WPBW327 | GS | PAGING DIMENSIONS INC.
WPBY928 | GS | PAGING DIMENSIONS INC.
WPFW875 | GS | PAGING DIMENSIONS INC.
KNLM397 | CD | PAGING SYSTEMS INC.
KNLR718 | CD | PAGING SYSTEMS MANAGEMENT, INC.
KNLR719 | CD | PAGING SYSTEMS MANAGEMENT, INC.
WPEB521 | GS | Paging USA INC.
KKB742 | CD | PARSONS MOBILE & PAGING, INC.
KNLU345 | CD | PATEL, SONAL C.
KKB791 | CD | PATRICIA A. BURGDORFF DBA: CONROE WILLIS PAGING SYSTEM.
KNLV429 | CD | PAUL K. BORKEY & M.D. BARONE.
KNLV430 | CD | PAUL K. BORKEY & M.D. BARONE.
KNLV427 | CD | PAUL K. BORKEY AND M.D. BARONE.
KNLU398 | CD | PAUL MATZEK.
KNLV778 | CD | PAUL R ROBINSON.
WPGD551 | GS | PELLISH COMMUNICATIONS INC.
WPGD552 | GS | PELLISH COMMUNICATIONS INC.
WPGD553 | GS | PELLISH COMMUNICATIONS INC.
WPGD599 | GS | PELLISH COMMUNICATIONS INC.
WPGF245 | GS | PELLISH COMMUNICATIONS INC.
WPHC586 | GS | PELLISH COMMUNICATIONS INC.
WPHC587 | GS | PELLISH COMMUNICATIONS INC.
WPHF440 | GS | PELLISH COMMUNICATIONS INC.
WPHF459 | GS | PELLISH COMMUNICATIONS INC.
WPHG837 | GS | PELLISH COMMUNICATIONS INC.
WPHG841 | GS | PELLISH COMMUNICATIONS INC.
WPHG856 | GS | PELLISH COMMUNICATIONS INC.
KNKO686 | CD | PELLISH COMMUNICATIONS, INC.
KNKO687 | CD | PELLISH COMMUNICATIONS, INC.
KNKO688 | CD | PELLISH COMMUNICATIONS, INC.
KNLR508 | CD | PELLISH COMMUNICATIONS, INC.
KNKD549 | CD | PEOPLES TELEPHONE COMPANY.
KNLV242 | CD | PHIL KOESTER BISSON.
KNLS994 | CD | PHILLIP BURKHARDT.
KNKO272 | CD | PHONE HOME, INC.
KNLN470 | CD | PHONE HOME, INC.
KNLV558 | CD | PISKOR, JOHN.
KNLV959 | CD | PNI SPECTRUM, LLC.
KNLV980 | CD | PNI SPECTRUM, LLC.
KNLV247 | CD | PRASHANT N. PATEL.
KNLV263 | CD | PRASHANT N. PATEL.
KNLP358 | CD | PREMIER PAGING GROUP PARTNERS.
KNLR382 | CD | PRUNTY, ROBERT L.
KNLR386 | CD | PRUNTY, ROBERT L.
KEA263 | CD | Qualco Wireless Corp.
KEA855 | CD | Qualco Wireless Corp.
KNKO395 | CD | Qualco Wireless Corp.
KNKO800 | CD | Qualco Wireless Corp.
KNKO801 | CD | Qualco Wireless Corp.
KNKP423 | CD | R&G DISTRIBUTORS, INC.
KNLR388 | CD | R.T. COMMUNICATIONS, INC.
KNLV512 | CD | RAMBABU KONERU.
WXS230 | CD | RAPIDS RADIO, INC.
KNLU221 | CD | RAYMOND BASSETT.
KNLR953 | CD | REV DR. JOHNNY HECKARD.
KNLQ947 | CD | REYES, RENIEL DBA: SOUTHEAST PAGING COMPANY.
KKB658 | CD | Richard A. Sullivan.
KNLU407 | CD | RICHARD M ZURAWSKI.
KNLV304 | CD | RICK HAVIL.
KNKO456 | CD | RING 10 INC.
KNLR952 | CD | ROBERT A WILLIAMS.
KNLV493 | CD | ROBERT D DALE.
KNLV518 | CD | ROBERT D DALE.
KNLU343 | CD | ROBERT E. NAY.
KNLU768 | CD | ROBERT M THIRLAWAY.
KNLV764 | CD | ROBERT MCCREARY.
KNLT546 | CD | ROBERTA CUITE-DEROSE.
WSI652 | CD | ROCKY TOP ENTERPRISES, INC.
KNLT305 | CD | ROGER L. FORBES.
KNLV453 | CD | ROGER L. FORBES.
KNLV456 | CD | ROGER L. FORBES.
KNLS299 | CD | ROMAN H MASSENBERG DBA: SOUTHEAST PAGING NETWORK.
KNLU341 | CD | RONALD GREENLEE & STEVEN CRANE.
KNKD291 | CD | SANDERS JR, DORSEY A.
KNLN219 | CD | Satellite Paging Inc.
KNKJ741 | CD | SATELLITE PAGING, INC.
KNLP239 | CD | SATELLITE PAGING, INC.
WPHD905 | GS | SATER, GARY N.
WPHD909 | GS | SATER, GARY N.
WPHD913 | GS | SATER, GARY N.
KNLQ339 | CD | SAVILLE CAMIE.
KNLS297 | CD | SEBASTIAN & NORMA SANCHEZ.
KNKP289 | CD | Select Carrier Corp.
KNLV497 | CD | SETH KRAUSS.
KNLQ717 | CD | SHARON L. SMITH.
KNLR290 | CD | SHEIKH, MUHAMMED.
KNKI931 | CD | SIGNAL ONE PAGING, INC.
KNLM596 | CD | SIGNAL SOUTHEAST.
KNLQ409 | CD | SIKORSKI, KENNETH S.
KNLN450 | CD | SIMMONS, MARK W. DBA: SIMMONS COMMUNICATIONS.
KNLN697 | CD | SKROCKI, GERARD.
KNLN730 | CD | SKROCKI, GERARD.
KNLN737 | CD | SKROCKI, GERARD.
KNLQ319 | CD | SMALLEY SHAWN.
KNLN616 | CD | SMALLEY, SHAWN.
KNLT303 | CD | SMITH, GENE A.
KNLQ233 | CD | SMITH, GENE A.
KNLQ649 | CD | SMITH, GENE A.
KNLN524 | CD | SMR/USA, INC.
KNLV334 | CD | SONAL C. PATEL.
KNLV335 | CD | SONAL C. PATEL.
KWT842 | CD | SONOMA COMMUNICATIONS, INC.
WPKR311 | GS | SOUKIASSIAN, HARRY: GOLD, DANNY DBA S & G COMMUNICATIONS.
KNKM735 | CD | SOURCE ONE WIRELESS II, L.L.C.
KNKO239 | CD | SOURCE ONE WIRELESS II, L.L.C.
KNKP714 | CD | SOURCE ONE WIRELESS II, L.L.C.
KNKP721 | CD | SOURCE ONE WIRELESS II, L.L.C.
KNKP722 | CD | SOURCE ONE WIRELESS II, L.L.C.
KNKP723 | CD | SOURCE ONE WIRELESS II, L.L.C.
KNKP724 | CD | SOURCE ONE WIRELESS II, L.L.C.
KNKP725 | CD | SOURCE ONE WIRELESS II, L.L.C.
KNKP726 | CD | SOURCE ONE WIRELESS II, L.L.C.
KNKP727 | CD | SOURCE ONE WIRELESS II, L.L.C.
KNKP728 | CD | SOURCE ONE WIRELESS II, L.L.C.
KNKP729 | CD | SOURCE ONE WIRELESS II, L.L.C.
KNKP730 | CD | SOURCE ONE WIRELESS II, L.L.C.
KNKP731 | CD | SOURCE ONE WIRELESS II, L.L.C.
KNKP742 | CD | SOURCE ONE WIRELESS II, L.L.C.
KNKP743 | CD | SOURCE ONE WIRELESS II, L.L.C.
KNKP783 | CD | SOURCE ONE WIRELESS II, L.L.C.
KNKS227 | CD | SOURCE ONE WIRELESS II, L.L.C.
KNKS228 | CD | SOURCE ONE WIRELESS II, L.L.C.
KNKS230 | CD | SOURCE ONE WIRELESS II, L.L.C.
KNKS256 | CD | SOURCE ONE WIRELESS II, L.L.C.
KNKS257 | CD | SOURCE ONE WIRELESS II, L.L.C.
KNLM277 | CD | SOURCE ONE WIRELESS II, L.L.C.
KNLM296 | CD | SOURCE ONE WIRELESS II, L.L.C.
KNLM348 | CD | SOURCE ONE WIRELESS II, L.L.C.
KNLM389 | CD | SOURCE ONE WIRELESS II, L.L.C.
KNLM482 | CD | SOURCE ONE WIRELESS II, L.L.C.
KNLM515 | CD | SOURCE ONE WIRELESS II, L.L.C.
KNLM610 | CD | SOURCE ONE WIRELESS II, L.L.C.
KNLM735 | CD | SOURCE ONE WIRELESS II, L.L.C.
KNLM758 | CD | SOURCE ONE WIRELESS II, L.L.C.
KNLM774 | CD | SOURCE ONE WIRELESS II, L.L.C.
KNLM812 | CD | SOURCE ONE WIRELESS II, L.L.C.
KNLM847 | CD | SOURCE ONE WIRELESS II, L.L.C.
KNLM871 | CD | SOURCE ONE WIRELESS II, L.L.C.
KNLM991 | CD | SOURCE ONE WIRELESS II, L.L.C.
KNLN230 | CD | SOURCE ONE WIRELESS II, L.L.C.
KNLN294 | CD | SOURCE ONE WIRELESS II, L.L.C.
KNLN300 | CD | SOURCE ONE WIRELESS II, L.L.C.
KNLN322 | CD | SOURCE ONE WIRELESS II, L.L.C.
KNLN361 | CD | SOURCE ONE WIRELESS II, L.L.C.
KNLN368 | CD | SOURCE ONE WIRELESS II, L.L.C.
KNLP878 | CD | SOURCE ONE WIRELESS II, L.L.C.
KNLQ632 | CD | SOURCE ONE WIRELESS II, L.L.C.
KNLQ662 | CD | SOURCE ONE WIRELESS II, L.L.C.
KNLR300 | CD | SOURCE ONE WIRELESS II, L.L.C.
KNLR301 | CD | SOURCE ONE WIRELESS II, L.L.C.
KNLR331 | CD | SOURCE ONE WIRELESS II, L.L.C.
KNLR337 | CD | SOURCE ONE WIRELESS II, L.L.C.
KNLR338 | CD | SOURCE ONE WIRELESS II, L.L.C.
KNLR341 | CD | SOURCE ONE WIRELESS II, L.L.C.
KNLR373 | CD | SOURCE ONE WIRELESS II, L.L.C.
KNLR375 | CD | SOURCE ONE WIRELESS II, L.L.C.
KNLR376 | CD | SOURCE ONE WIRELESS II, L.L.C.
WPKD756 | GS | SOUTH TEXAS PAGING INC.
KNKO381 | CD | SOUTHERN HIGHLANDS COMMUNICATIONS, INC.
KKB662 | CD | SOUTHWEST MOBILE SYSTEMS, INC.
KNKO341 | CD | SPACE MARK COMMUNICATIONS, INC.
KNKI510 | CD | SPS COMMUNICATIONS, INC.
KNKL889 | CD | ST. LOUIS ELECTRONICS COMM. CORP.
KNLQ721 | CD | STANLEY A. STANEK.
WXR982 | CD | STAR COMMUNICATIONS, INC.
WRW252 | CD | STAR COMMUNICATIONS, INC.
KNLQ506 | CD | STASZAK, SIEGFRIED.
KNLQ905 | CD | STEM, J. ROBERT DBA: SOUTHEAST PAGING NETWORK.
WPHB307 | GS | STEM, JAMES ROBERT.
WPHD342 | GS | STEM, JAMES ROBERT.
KNLW393 | CD | STEVEN S. SELTZER.
KNLP597 | CD | STEWART JACKSON.
KNLU417 | CD | SUMITRA C. PATEL.
KNLU437 | CD | SUMITRA C. PATEL.
KNKB752 | CD | TBA Communications Inc.
KNKK349 | CD | TBA Communications Inc.
KPD997 | CD | TBA Communications Inc.
WQZ648 | CD | TBA Communications Inc.
KKB425 | CD | TEL-A-VOICE.
KKB553 | CD | TEL-CAR INC.
KLF490 | CD | TEL-CAR INC.
KLF594 | CD | TEL-CAR INC.
KNKC854 | CD | TEL-CAR INC.
KRM969 | CD | TEL-CAR INC.
KSV957 | CD | TEL-CAR INC.
KUA224 | CD | TEL-CAR INC.
KUS393 | CD | TEL-CAR INC.
KWT899 | CD | TEL-CAR INC.
KRS711 | CD | TELCOM GROUP, INC.
WQZ513 | CD | TELE-SERV.
WQZ594 | CD | TELE-SERV.
KNKJ786 | CD | Tener, William J.
KNLU444 | CD | TERRACHEM CORPORATION.
KNLU376 | CD | THAKOR R. PATEL.
KNLV344 | CD | THOMAS N & INGRID S DUPREE.
KNKB858 | CD | THOMPSON PAGING AND MOBILE TELEPHONE, INC.
KNLN764 | CD | THORSON, BILL DBA: PRAIRIE COMMUNICATIONS.
KNLV207 | CD | TOM WILLIE DBA: T & M ASSOCIATES.
KNLQ933 | CD | TRACY CORPORATION II.
KRS685 | CD | TRI-STAR COMMUNICATIONS, INC.
KNLV572 | CD | TRUDI STRYKER DBA: ONE WORLD COMMUNICATION.
KNLM843 | CD | TSR PAGING, INC.
KNEE874 | GS | TULSA SECURITY PATROL INC.
WPJX289 | GS | UNICOM PAGING NETWORK OF AMERICA INC.
WPJX344 | GS | UNICOM PAGING NETWORK OF AMERICA INC.
WPJW846 | GS | UNICOM PAGING NETWORK OF TEXAS INC.
WPJY989 | GS | UNICOM PAGING NETWORK OF TEXAS INC.
WPJY990 | GS | UNICOM PAGING NETWORK OF TEXAS INC.
WPJZ234 | GS | UNICOM PAGING NETWORK OF TEXAS INC.
WPJZ235 | GS | UNICOM PAGING NETWORK OF TEXAS INC.
WPJZ275 | GS | UNICOM PAGING NETWORK OF TEXAS INC.
WPKC849 | GS | UNICOM PAGING NETWORK OF TEXAS INC.
WPKC873 | GS | UNICOM PAGING NETWORK OF TEXAS INC.
WPKC876 | GS | UNICOM PAGING NETWORK OF TEXAS INC.
WPKF506 | GS | UNICOM PAGING NETWORK OF TEXAS INC.
WPKF516 | GS | UNICOM PAGING NETWORK OF TEXAS INC.
WPKH933 | GS | UNICOM PAGING NETWORK OF TEXAS INC.
WPKI636 | GS | UNICOM PAGING NETWORK OF TEXAS INC.
WPKJ847 | GS | UNICOM PAGING NETWORK OF TEXAS INC.
WPMJ401 | GS | UNICOM PAGING NETWORK OF TEXAS INC.
KNLV262 | CD | VINCENT H. STACK MD.
KNLU960 | CD | WAYNE SPOONEMORE.
KNLN714 | CD | Wells Jr., G. Larry.
KNLN319 | CD | Wells Jr., Larry.
KNLR616 | CD | WESTLINK LICENSEE CORPORATION DBA: WESTLINK PAGING.
WPOM363 | CD | WESTLINK LICENSEE CORPORATION DBA: WESTLINK PAGING.
KNKK773 | CD | WETMORE, H SCOTT.
KKB639 | CD | WGM BUSINESS COMMUNICATIONS, INC. DBA: CENTRAL ANSWERING AND PAGING SERVICE.
KNKC970 | CD | WGM BUSINESS COMMUNICATIONS, INC. DBA: CENTRAL ANSWERING AND PAGING SERVICE.
KNKD261 | CD | WGM BUSINESS CORPORATION, INC. DBA: CENTRAL ANSWERING AND PAGING SERVICE.
KNLP288 | CD | WHARTON TELECOM HOLDINGS, INC.
KNLP291 | CD | WHARTON TELECOM HOLDINGS, INC.
KNLP310 | CD | WHARTON TELECOM HOLDINGS, INC.
KNLP337 | CD | WHARTON TELECOM HOLDINGS, INC.
KNLP475 | CD | WHARTON TELECOM HOLDINGS, INC.
KNLQ800 | CD | WHARTON TELECOM HOLDINGS, INC.
KNLQ809 | CD | WHARTON TELECOM HOLDINGS, INC.
KNLQ812 | CD | WHARTON TELECOM HOLDINGS, INC.
KNLQ820 | CD | WHARTON TELECOM HOLDINGS, INC.
KNLQ862 | CD | WHARTON TELECOM HOLDINGS, INC.
KNLP333 | CD | WHARTON TELECOM HOLDINGS, INC. DBA: SOUTHEAST PAGING NETWORK.
KNLP418 | CD | WHARTON TELECOM HOLDINGS, INC. DBA: SOUTHEAST PAGING NETWORK.
KNLQ870 | CD | WHARTON TELECOM HOLDINGS, INC. DBA: SOUTHEAST PAGING NETWORK.
KNLQ898 | CD | WHARTON TELECOM HOLDINGS, INC. DBA: SOUTHEAST PAGING NETWORK.
WNRS604 | GS | WHISKEY PETES CASINO.
KNLM542 | CD | WIGGINS, BETTY M. & FOLKS, SR., RICHARD.
KNLV257 | CD | WILLIAM J. ST. ONGE SR.
KNLV683 | CD | WILLIAM SARCHET DBA: SFT, LTD.
KNLV770 | CD | WILLIAM SARCHET DBA: SFT, LTD.
KNLV751 | CD | WILLIAMS, HELEN VERENA T.
KNLV756 | CD | WILLIAMS, HELEN VERENA T.
KNLQ731 | CD | WILLIAMS, RONALD D.
KLB314 | CD | Wilson Communications Inc.
WRV992 | CD | Wilson Communications Inc.
KKB449 | CD | YAZOO ANSWER CALL, INC.
KRH663 | CD | YAZOO ANSWER CALL, INC.
WPFN859 | GS | YELLOW PAGER COMMUNICATION SYSTEM.
WPFN381 | GS | YOO, KENNETH K.
KNLN733 | CD | ZAREMBA DAVE.
KNLN878 | CD | ZAREMBA CASIMER.
KNLN701 | CD | ZAREMBA DAVE.
KNLN719 | CD | ZAREMBA, CASIMER.
KNLN946 | CD | ZAREMBA, CASIMER.
KNLN625 | CD | ZAREMBA, CHESTER.
KNLN843 | CD | ZAREMBA, CHESTER.
KNLP549 | CD | ZAREMBA, CHESTER.
KNLP676 | CD | ZAREMBA, CHESTER.
KNLN623 | CD | ZAREMBA, DAVE.
KNLN899 | CD | ZAREMBA, DAVE.
KNLN454 | CD | ZINSER, ROBERT A.

[FR Doc. 05-7182 Filed 4-12-05; 8:45 am]

BILLING CODE 6712-01-P